DEPARTMENT OF COMMERCE

International Trade Administration

[A-570-044]

1,1,1,2-Tetrafluoroethane (R-134a) From the People's Republic of China: Preliminary Results of Antidumping Duty Administrative Review, Partial Rescission, and Preliminary Determination of No Shipments; 2021-2022

AGENCY: Enforcement and Compliance, International Trade Administration, Department of Commerce.

SUMMARY: The U.S. Department of Commerce (Commerce) preliminarily determines that the sole mandatory respondent under review sold subject merchandise at less than normal value (NV) during the period of review (POR) April 1, 2021, through March 31, 2022. Additionally, Commerce preliminarily finds that one company had no shipments of subject merchandise during the POR and that it is appropriate to rescind this review with respect to 22 companies because all requests for review of these companies were withdrawn. Interested parties are invited to comment on these preliminary results.

DATES: Applicable May 3, 2023.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On April 19, 2017, Commerce published in the Federal Register the antidumping duty (AD) order on 1,1,1,2-Tetrafluoroethane (R-134a) from the People's Republic of China (China).¹ On June 9, 2022, pursuant to section 751(a)(1) of the Tariff Act of 1930, as amended (the Act), Commerce initiated an administrative review of Order.² The review covers 25 companies, including mandatory respondent Zhejiang Sanmei Chemical Ind. Co., Ltd. (Zhejiang Sanmei).³

¹ See 1,1,1,2-Tetrafluoroethane (R-134a) from the People's Republic of China: Antidumping Duty Order, 82 FR 18422 (April 19, 2017) (Order).

² See Initiation of Antidumping and Countervailing Duty Administrative Reviews, 87 FR 35165 (June 9, 2022) (Initiation Notice).

³ We have preliminarily determined to treat Zhejiang Sanmei, Jiangsu Sanmei Chemical Ind. Co., Ltd. (Jiangsu Sanmei), and Fujian Qingliu Dongying Chemical Ind. Co., Ltd. (Fujian Qingliu) as a single entity for purposes of this administrative review. For further discussion, see Memorandum, “Decision Memorandum for the Preliminary Results of Antidumping Duty Administrative Review: 1,1,1,2-Tetrafluoroethane (R-134a) from the People's Republic of China; 2021-2022,” dated concurrently with, and hereby adopted by, this notice (Preliminary Decision Memorandum).

For events that occurred since the Initiation Notice and the analysis behind the preliminary results herein, see the Preliminary Decision Memorandum.⁴ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included as Appendix I to this notice.

⁴ See Preliminary Decision Memorandum.

Scope of the Order ⁵

⁵ See Order.

The product covered by the Order is R-134a from China. For a complete description of the scope of the Order, see the Preliminary Decision Memorandum.

Partial Rescission of Review

Pursuant to 19 CFR 351.213(d)(1), Commerce will rescind an administrative review, in whole or in part, if a party who requested the review withdraws the request within 90 days of the date of publication of the notice of initiation of the requested review. On September 7, 2022, the American HFC Coalition (the petitioner) timely withdrew its review request for 22 companies listed in the Initiation Notice. No other parties requested a review of these companies. Accordingly, pursuant to 19 CFR 351.213(d)(1), Commerce is rescinding the administrative review with respect to the companies listed in Appendix II. Zhejiang Sanmei, T.T. International Co., Ltd. (TTI), and Zhejiang Quhua Fluor-Chemistry Co., Ltd. (Zhejiang Quhua) remain under review.⁶

⁶ See Preliminary Decision Memorandum; see also Petitioner's Letter, “Partial Withdrawal of Request for Administrative Review of Antidumping Duty Order,” dated September 7, 2022.

Preliminary Determination of No Shipments

We preliminarily determine that TTI had no shipments of subject merchandise during the POR. Consistent with our practice in non-market economy (NME) cases, Commerce is not rescinding this review with respect to TTI but, rather, we intend to complete the review and issue appropriate instructions to U.S. Customs and Border Protection (CBP) based on the final results of the review.⁷ For further discussion, see the Preliminary Decision Memorandum.

⁷ See Non-Market Economy Antidumping Proceedings: Assessment of Antidumping Duties, 76 FR 65694, 65694-95 (October 24, 2011) (NME AD Assessment).

Separate Rates

We preliminarily determine that the Zhejiang Sanmei single entity is entitled to separate rate status. Moreover, because Zhejiang Quhua did not submit a separate rate application or certification, we preliminarily find that the company has not established its eligibility for a separate rate.

The China-Wide Entity

Commerce's policy regarding conditional review of the China-wide entity applies to this administrative review.⁸ Under this policy, the China-wide entity will not be under review unless a party specifically requests, or Commerce self-initiates, a review of the entity. Because no party requested a review of the China-wide entity, the entity is not under review, and the entity's rate, i.e., 167.02 percent, is not subject to change.⁹ Because Zhejiang Quhua did not establish its eligibility for a separate rate in this administrative review, we preliminarily consider Zhejiang Quhua to be part of the China-wide entity.

⁸ See Antidumping Proceedings: Announcement of Change in Department Practice for Respondent Selection in Antidumping Duty Proceedings and Conditional Review of the Nonmarket Economy Entity in NME Antidumping Duty Proceedings, 78 FR 65963 (November 4, 2013).

⁹ See Order, 82 FR at 18423.

Methodology

We are conducting this administrative review in accordance with section 751(a)(1)(B) of the Act and 19 CFR 351.213. We calculated export prices for Zhejiang Sanmei in accordance with section 772(a) of the Act. Because China is an NME within the meaning of section 771(18) of the Act, we calculated NV in accordance with section 773(c) of the Act. For a full description of the methodology underlying the preliminary results of this review, see the Preliminary Decision Memorandum.

Preliminary Results of Review

We preliminarily determine that the following weighted-average dumping margin exists for the period April 1, 2021, through March 31, 2022:

Exporter | Weighted- average dumping margin (percent)
Zhejiang Sanmei Chemical Ind. Co., Ltd./Jiangsu Sanmei Chemical Ind. Co., Ltd./Fujian Qingliu Dongying Chemical Ind. Co. Ltd | 147.08

Disclosure and Public Comment

We intend to disclose to interested parties the calculations performed for these preliminary results in accordance with 19 CFR 351.224(b). Interested parties may submit case briefs no later than 30 days after the date of publication of these preliminary results of review.¹⁰ Rebuttal briefs, limited to issues raised in case briefs, may be submitted no later than seven days after the deadline date for case briefs.¹¹ Pursuant to 19 CFR 351.309(c)(2) and (d)(2), parties who submit case briefs or rebuttal briefs in this review are encouraged to submit with each argument: (1) a statement of the issue; (2) a brief summary of the argument; and (3) a table of authorities. Executive summaries should be limited to five pages total, including footnotes. Case and rebuttal briefs should be filed using ACCESS ¹² and must be served on interested parties.¹³ Note that Commerce has temporarily modified certain of its requirements for serving documents containing business proprietary information, until further notice.¹⁴

¹⁰ See 19 CFR 351.309(c).

¹¹ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹² See generally 19 CFR 351.303.

¹³ See 19 CFR 351.303(f).

¹⁴ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.¹⁵ Requests should contain the party's name, address, and telephone number, the number of participants, whether any participant is a foreign national, and a list of the issues to be discussed. If a request for a hearing is made, Commerce intends to hold the hearing at a time and date to be determined.¹⁶ Parties should confirm by telephone the date and time of the hearing two days before the scheduled date.

¹⁵ See 19 CFR 351.310(c).

¹⁶ See 19 CFR 351.310(d).

Unless otherwise extended, we intend to issue the final results of this administrative review, which will include the results of our analysis of the issues raised in the case and rebuttal briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b)(1). Commerce intends to issue assessment instructions to CBP 35 days after the publication of the final results of this review. If a timely summons is filed at the U.S. Court of International Trade, the assessment instructions will direct CBP not to liquidate relevant entries until the time for parties to file a request for a statutory injunction has expired (i.e., within 90 days of publication).

If the ad valorem weighted-average dumping margin for the Zhejiang Sanmei, Jiangsu Sanmei, and Fujian Qingliu single entity is not zero or de minimis (i.e., less than 0.50 percent) in the final results of this review, Commerce will calculate importer-specific assessment rates on the basis of the ratio of the total amount of dumping calculated for the importer's examined sales and the total quantity of those sales, in accordance with 19 CFR 351.212(b)(1).¹⁷ We will instruct CBP to assess antidumping duties on all appropriate entries covered by this review when the importer-specific ad valorem assessment rate calculated in the final results of this review is not zero or de minimis.

¹⁷ In these preliminary results, Commerce applied the assessment rate calculation method adopted in Antidumping Proceedings: Calculation of the Weighted-Average Dumping Margin and Assessment Rate in Certain Antidumping Proceedings: Final Modification, 77 FR 8101 (February 14, 2012).

In addition, if in the final results we continue to find no shipments of subject merchandise for TTI, any suspended entries of subject merchandise associated with TTI will be liquidated at the China-wide rate.¹⁸

¹⁸ See NME AD Assessment.

For the companies for which the administrative review is rescinded, antidumping duties shall be assessed at a rate equal to the cash deposit of estimated antidumping duties required at the time of entry, or withdrawal from warehouse, for consumption, in accordance with 19 CFR 351.212(c)(1)(i). We intend to issue appropriate assessment instructions to CBP with respect to the companies for which this administrative review is rescinded 35 days after the publication of this notice in the Federal Register.

Cash Deposit Requirements

The following cash deposit requirements will be effective upon publication of the final results of this review for all shipments of the subject merchandise from China entered, or withdrawn from warehouse, for consumption on or after the publication date, as provided for by section 751(a)(2)(C) of the Act: (1) the cash deposit rate for the Zhejiang Sanmei, Jiangsu Sanmei, and Fujian Qingliu single entity will be that rate established in the final results of this review (except, if the rate is de minimis, then a cash deposit rate of zero will be required); (2) for a previously investigated or reviewed exporter of subject merchandise not listed in the final results of review that has a separate rate, the cash deposit rate will continue to be the exporter's existing cash deposit rate; (3) for all Chinese exporters of subject merchandise that have not been found to be entitled to a separate rate, the cash deposit rate will be the rate for the China-wide entity (i.e., 167.02 percent); and (4) for all exporters of subject merchandise that are not located in China and are not eligible for a separate rate, the cash deposit rate will be the rate applicable to the Chinese exporter(s) that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing the preliminary results of this review in accordance with sections 751(a)(l) and 777(i)(l) of the Act, and 19 CFR 351.213(d)(4), 19 CFR 351.213(h)(1), and 19 CFR 351.221(b)(4).

Dated: April 26, 2023.
Lisa W. Wang,
Assistant Secretary for Enforcement and Compliance.

Appendix I

List of Topics Discussed in the Preliminary Decision Memorandum

I. Summary

II. Background

III. Period of Review

IV. Scope of the Order

V. Respondent Selection

VI. Partial Rescission of Administrative Review

VII. Preliminary Determination of No Shipments

VIII. Single Entity Treatment

IX. Discussion of the Methodology

X. Recommendation

Appendix II

Companies for Which the Administrative Review Is Being Rescinded

1. Electrochemical Factory of Zhejiang Juhua Co., Ltd.

2. Fujian Qingliu Dongying Chemical Ind. Co., Ltd.

3. Hongkong Richmax Ltd.

4. Huantai Dongyue International Trade Co. Ltd.

5. Jiangsu Bluestar Green Technology Co., Ltd.

6. Jiangsu Sanmei Chemicals Co., Ltd.

7. Jinhua Binglong Chemical Technology Co., Ltd.

8. Jinhua Yonghe Fluorochemical Co., Ltd.

9. Puremann, Inc.

10. Shandong Dongyue Chemical Co., Ltd.

11. Shandong Huaan New Material Co., Ltd.

12. Sinochem Environmental Protection Chemicals (Taicang) Co., Ltd.

13. Weitron International Refrigeration Equipment (Kunshan) Co., Ltd. (aka Weichang Refrigeration Equipment (Kunshan) Co., Ltd.)

14. Zhejiang Juhua Co., Ltd.

15. Zhejiang Morita New Materials Co., Ltd.

16. Zhejiang Organic Fluor-Chemistry Plant, Zhejiang Juhua Co., Ltd.

17. Zhejiang Quhua Juxin Fluorochemical Industry Co., Ltd.

18. Zhejiang Quzhou Juxin Fluorine Chemical Co., Ltd.

19. Zhejiang Quzhou Lianzhou Refrigerants Co., Ltd.

20. Zhejiang Yonghe Refrigerant Co., Ltd.

21. Zhejiang Zhonglan Refrigeration Technology Co., Ltd.

22. Zibo Feiyuan Chemical Co., Ltd.

[FR Doc. 2023-09349 Filed 5-2-23; 8:45 am]

BILLING CODE 3510-DS-P